DEPARTMENT OF STATE

22 CFR Parts 120, 122, 123 and 129

[Public Notice: 7386]

RIN 1400-AC74

Amendment to the International Traffic in Arms Regulations: Electronic Payment of Registration Fees; 60-Day Notice of the Proposed Statement of Registration Information Collection; Correction

AGENCY: Department of State.

ACTION: Proposed rule; correction.

SUMMARY: The Department of State published a proposed rule in the Federal Register on February 24, 2011, concerning a proposed “DS-2032 Statement of Registration” Information Collection. The proposed rule contained incorrect addresses for the submission of public comments concerning the information collection.

FOR FURTHER INFORMATION CONTACT: Tanya Phillips, 202-632-2879

Correction

In the proposed rule FR Doc. 2011-3878 of February 24, 2011, page 10293, in the second column, correct lines 47 through 71 to read as follows:

“Comments from the public on the information collection may be submitted until May 23, 2011.

Comments should be sent by any of the following methods:

• E-mail: DDTCResponseTeam@state.gov with the subject line, “Electronic Payment of Registration Fees.”

• Mail: PM/DDTC, SA-1, H1200, Directorate of Defense Trade Controls, Office of Defense Trade Controls Compliance, ATTN: Electronic Payment of Registration Fees, Bureau of Political Military Affairs, U.S. Department of State, Washington, DC 20522-0112.

• Internet: View and comment on the original notice by searching for its RIN (1400-AC74) on the U.S. Government regulations Web site at http://www.regulations.gov.”

Dated: March 17, 2011.
Robert S. Kovac,
Managing Director of Defense Trade Controls, Bureau of Political-Military Affairs, U.S. Department of State.

[FR Doc. 2011-6977 Filed 3-23-11; 8:45 am]

BILLING CODE 4710-25-P